SMALL BUSINESS ADMINISTRATION

Main Street Capital ll, L.P., License No. 06/06-0332; Notice Seeking Exemption Under Section 312 of the Small Business Investment Act, Conflicts of Interest

Notice is hereby given that Main Street Capital ll, L.P., 1300 Post Oak Boulevard, Suite 800, Houston, TX 77056, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Main Street Capital ll, L.P. proposes to provide loan and equity financing to Pacific Consolidated Industries, Inc., 12201 Magnolia Avenue, Riverside, CA 92503 (“PCf').

The financing is brought within the purview of § 107.730(a)(4) of the Regulations because Main Street Capital ll, L.P. proposes to purchase the investment in PCI from Main Street Capital Corporation, an Associate of Main Street Capital ll, L.P. Therefore this transaction is considered a financing constituting a conflict of interest requiring prior SBA approval.

Notice is hereby given that any interested person may submit written comments on the transaction, within fifteen days of the date of this publication, to the Associate Administrator for Investment, 409 Third Street SW., Washington, DC 20416.

Harry Haskins,
Acting Associate Administrator for Investment.

[FR Doc. 2013-12496 Filed 5-28-13; 8:45 am]

BILLING CODE;P